DEPARTMENT OF HEALTH AND HUMAN SERVICES

Agency for Healthcare Research and Quality

Agency Information Collection Activities: Proposed Collection; Comment Request

AGENCY: Agency for Healthcare Research and Quality, HHS.

ACTION: Notice.

SUMMARY: This notice announces the intention of the Agency for Healthcare Research and Quality (AHRQ) to request that the Office of Management and Budget (0MB) approve the proposed information collection project: “Evaluation of Phase I Demonstrations of the Pharmacy Quality Alliance.” In accordance with the Paperwork Reduction Act of 1995, Public Law 104-13 (44 U.S.C. 3506(c)(2)(A)), AHRQ invites the public to comment on this proposed information collection.

This proposed information collection was previously published in the Federal Register on February 10th, 2009 and allowed 60 days for public comment. One comment was received. The purpose of this notice is to allow an additional 30 days for public comment.

DATES: Comments on this notice must be received by May 26, 2009.

ADDRESSES: Written comments should be submitted to: AHRQ's 0MB Desk Officer by fax at (202) 395-6974 (attention: AHRQ's desk officer) or by e-mail at OIRA_submissionomb.eop.gov (attention: AHRQ's desk officer).

Copies of the proposed collection plans, data collection instruments, and specific details on the estimated burden can be obtained from the AHRQ Reports Clearance Officer.

FOR FURTHER INFORMATION CONTACT: Doris Lefkowitz, AHRQ Reports Clearance Officer, (301) 427-1477, or by e-mail at doris.lefkowitz@ahrg.hhs.gov.

SUPPLEMENTARY INFORMATION:

“Evaluation of Phase I Demonstrations of the Pharmacy Quality Alliance”

AHRQ proposes to conduct an independent evaluation of five Phase I demonstrations undertaken by the Pharmacy Quality Alliance (PQA). The PQA launched the five demonstration projects to test the feasibility of implementing a pharmacy provider report card system, which will be used to provide feedback to pharmacies on their performance. The goals of the demonstrations are to obtain feedback from pharmacists on the credibility of the performance reports and their utility in performance improvement, and to identify the most efficient and useful ways to implement a performance-based quality reporting system. The evaluation will be conducted for AHRQ by its contractor, the CNA Corporation and Thomas Jefferson Medical College.

The purpose of this evaluation is to identify problems associated with the implementation of a performance-based quality reporting system. The evaluation of the Phase I demonstrations will:

• Test the feasibility and utility of (1) using 15 PQA claims-based measures on pharmacy performance and (2) a survey of consumers about their experience with pharmacy services, which was developed by the PQA;

• Determine the resource (time and cost) requirements for collecting the data and generating the pharmacy performance reports; and

• Provide a base of knowledge that enables the PQA to improve the implementation process, increase operational efficiency, reduce operational costs, and enhance the utility and validity of the performance measures.

This project is being conducted pursuant to AHRQ's statutory authority to conduct and support research and evaluations on health care and on systems for the delivery of such care, including activities with respect to (1) the quality, effectiveness, efficiency, appropriateness and value of health care services and (2) quality measurement and improvement. 42 U.S.C. 299a(a)(l) and (2).

Method of Collection

The evaluation will include the following two data collections: (1) On-site interviews with key staff from each demonstration project and (2) a survey of pharmacy staff. The data will be collected to obtain the following types of information necessary for the evaluation:

• Organizational background related to quality measurement, organizational resources for quality measurement;

• Measurement methodology;

• Opinions on the performance measures;

• The process for disseminating the performance measures;

• Incentives and penalties for participation in pharmacy quality improvement;

• Usability of the performance reports;

• Future directions for quality measurement in the organization; and

• Respondent characteristics.

On-site interviews with key demonstration participants.

On-site interviews will be conducted with up to six persons at each of the five demonstration sites. The study will try to interview representatives from the following job functions: (1) Pharmacy operations management; (2) clinical pharmacy staff; (3) quality improvement; (4) utilization management; (5) analytics management responsible for oversight of performance report analyses; (6) analytics staff assigned to complete the performance reports; (7) information technology (IT) staff responsible for developing and/or coordinating Internet components of the project; and (8) senior management (executive leadership, i.e., Vice President level and above).

Survey of Pharmacy Staff

A pharmacy staff survey will be developed to yield additional quantitative data about the demonstration projects. The sample will consist of practicing pharmacists who are participating in the demonstration sites and who received one or more of the performance reports. It will also include field managers and supervisors. At each of the five sites, up to 100 pharmacy staff members will be sampled, with an expected response rate of 75 percent, yielding 75 respondents per site.

Estimated Annual Respondent Burden

Exhibit 1 shows the estimated annualized burden hours for this one year data collection. On-site interviews will be conducted with 6 staff members from each of the 5 demonstration projects and will last about 1 hour and 15 minutes. The survey of pharmacists will be completed by about 75 staff members from each demonstration project and is estimated to take 30 minutes to complete. The total estimated annualized burden is 226 hours.

Exhibit 2 shows the estimated annualized cost burden associated with the respondents' time to participate in this evaluation. The cost burden is estimated to be $10,753.

Exhibit 1—Estimated Annualized Burden Hours
Form name | Number of projects | Number of responses per project | Hours per response | Total burden hours
Demonstration Staff Interviews | 5 | 6 | 1.25 | 38
Survey of Pharmacists | 5 | * 75 | 30/60 | 188
Total | 10 | na | na | 226
* We expect that some demonstration projects will have fewer than 75 responses, but we are indicating 75 responses here to avoid underestimating the response burden.

Exhibit 2—Estimated Annualized Cost Burden
Form name | Number of projects | Total burden hours | Average hourly wage rate * | Total cost burden
Demonstration Staff Interviews | 5 | 38 | $47.58 | $1,808
Survey of Pharmacists | 5 | 188 | 47.58 | 8,945
Total | 10 | 226 | na | 10,753
* Based on the national average wage for pharmacists (29-1051), National Compensation Survey: Occupational Wages in the United States May 2007, U.S. Department of Labor, Bureau of Labor Statistics.

Estimated Annual Costs to the Federal Government

The estimated total cost to the Federal government for this one year evaluation is $208,874. Exhibit 3 shows a breakdown of the costs.

Exhibit 3—Estimated Annual Costs to the Federal Government
Component | Total
Developing the interview guide and survey instrument | $33,905
Preparing 0MB clearance submission | 6,704
Site visits to each demonstration | 73,368
Analyzing the data from each demonstration site. | 54,835
Preparing a final report | 40,062
Total | 208,874

Request for Comments

In accordance with the above-cited Paperwork Reduction Act legislation, comments on AHRQ's information collection are requested with regard to any of the following: (a) Whether the proposed collection of information is necessary for the proper performance of AHRQ health care research and health care information dissemination functions, including whether the information will have practical utility; (b) the accuracy of AHRQ's estimate of burden (including hours and costs) of the proposed collection(s) of information; (c) ways to enhance the quality, utility, and clarity of the information to be collected; and (d) ways to minimize the burden of the collection of information upon the respondents, including the use of automated collection techniques or other forms of information technology.

Comments submitted in response to this notice will be summarized and included in the Agency's subsequent request for OMB approval of the proposed information collection. All comments will become a matter of public record.

Dated: April 15, 2009.
Carol M. Clancy,
Director.

[FR Doc. E9-9248 Filed 4-23-09; 8:45 am]

BILLING CODE 4160-90-M